DEPARTMENT OF TRANSPORTATION

Federal Aviation Administration

Notice of Availability of the Draft Environmental Assessment for Proposed Settlement Agreement Departure Procedure Amendments for Bob Hope “Hollywood Burbank” Airport

AGENCY: Federal Aviation Administration (FAA), Department of Transportation.

ACTION: Public comment period for the FAA's Draft Environmental Assessment.

SUMMARY: The FAA announces the release of the Draft Environmental Assessment (EA) for proposed departure procedure amendments at Bob Hope “Hollywood Burbank” Airport (BUR Airport). The FAA has prepared the Draft EA to evaluate the potential environmental impacts of the FAA adopting new procedures for Runway 15 departures at BUR Airport. If implemented, the Proposed Action (Alternative A) is intended to maintain the safety and efficiency of the National Airspace System (NAS) while meeting the terms of a settlement agreement that the FAA entered with local homeowners' associations, which requires consideration of alternative procedures. The FAA also evaluated proposed amendments put forth by the Southern San Fernando Valley Airplane Noise Task Force for BUR Airport (Alternative B).

DATES: The Draft EA is available for public review beginning on December 11, 2023, and comments can be submitted on or before January 24, 2024.

ADDRESSES: Comments can be submitted by email to 9-AJO-BUR-Community-Involvement@FAA.GOV or by mail to Federal Aviation Administration, Operations Support Group, Western Service Center, 2200 216th Street, Des Moines, WA 98198. Under FAA Order 1050.1F, 6-2.2(g), Public Comments on a Draft EA, the “FAA or applicant must publish a notice of the draft EA's availability in local newspapers, other media, and/or on the internet. This notice must include the following statement: Before including your address, phone number, email address, or other personal identifying information in your comment, be advised that your entire comment—including your personal identifying information—may be made publicly available at any time. While you can ask us in your comment to withhold from public review your personal identifying information, we cannot guarantee that we will be able to do so.”

FOR FURTHER INFORMATION CONTACT: Lonnie D. Covalt, Operations Support Group, Western Service Center, 2200 216th Street, Des Moines, WA 98198; telephone 206-231-3998, email 9-AJO-BUR-Community-Involvement@FAA.GOV.

SUPPLEMENTARY INFORMATION: The Draft EA was prepared in accordance with the settlement agreement between the Benedict Hills Homeowners Association, Benedict Hills Estates Association, and the FAA (“Settlement Agreement”) to assess potential environmental impacts in connection with proposed amendments to the OROSZ and SLAPP departure procedures at BUR Airport. In addition to the No Action Alternative, where current procedures at BUR Airport would continue to be utilized, the FAA is considering two additional alternatives.

The first alternative (Alternative A) was developed in accordance with the Settlement Agreement and would result in the amendment of existing flight procedures to create two Open Standard Instrument Departure (SID) procedures, the SLAPP THREE DEPARTURE (Area Navigation [RNAV]) (“SLAPP THREE”) and the OROSZ THREE DEPARTURE (RNAV) (“OROSZ THREE”) procedure.

The second alternative (Alternative B) is comprised of the modification of the current SLAPP TWO DEPARTURE (RNAV) (“SLAPP TWO”) and OROSZ TWO DEPARTURE (RNAV) (“OROSZ TWO”) procedures to require a higher climb gradient. Alternative B was developed in accordance with recommendations set forth by a separate community stakeholder, the Southern San Fernando Valley Airplane Noise Task Force, to reduce noise over communities in southern San Fernando Valley.

The Draft EA is available upon request by contacting Operation Support Group, Western Service Center, Federal Aviation Administration, 2200 216th Street, Des Moines, WA 98198; telephone (206) 231-2286. The Draft EA is also available on the FAA website at: https://www.faa.gov/air_traffic/community_engagement/bur.

Issued in Des Moines, WA, on December 5, 2023.
Lonnie D. Covalt,
Lead Environmental Protection Specialist, Operations Support Group, Western Service Center.

[FR Doc. 2023-27143 Filed 12-8-23; 8:45 am]

BILLING CODE 4910-13-P